DEPARTMENT OF COMMERCE

National Oceanic and Atmospheric Administration

RIN 0648-XF51

Marine Mammals; File No. 727-1915

AGENCY: National Marine Fisheries Service (NMFS), National Oceanic and Atmospheric Administration (NOAA), Commerce.

ACTION: Notice; issuance of permit.

SUMMARY: Notice is hereby given that the Scripps Institute of Oceanography [Responsible Party/Principal Investigator: John Hildebrand, Ph.D.] has been issued a permit to conduct scientific research on marine mammals.

ADDRESSES: The permit and related documents are available for review upon written request or by appointment (See SUPPLEMENTARY INFORMATION).

FOR FURTHER INFORMATION CONTACT: Jaclyn Daly or Kate Swails, (301)713-2289.

SUPPLEMENTARY INFORMATION: On May 3, 2007, notice was published in the Federal Register (72 FR 24564) that a request for a scientific research permit to take 31 species of cetaceans, including ESA-listed species, had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes close approach, biopsy sampling, suction-cup tagging, fecal sampling, skin collection, and passive acoustic recording of cetaceans in the Northern and Central Pacific Ocean. The purpose of the research is to improve baseline data on marine mammal status, abundance, stock structure, life history, seasonal distribution, and acoustic communication and behavior of non- ESA and ESA listed species. The permit is issued for five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: February 6, 2008.
Tammy C. Adams,
Acting Chief, Permits, Conservation and Education Division, Office of Protected Resources, National Marine Fisheries Service.

[FR Doc. E8-2603 Filed 2-12-08; 8:45 am]

BILLING CODE 3510-22-S